CONSUMER PRODUCT SAFETY COMMISSION

[Docket No. CPSC-2012-0068]

16 CFR Part 1225

Safety Standard for Hand-Held Infant Carriers; Correction

AGENCY: Consumer Product Safety Commission.

ACTION: Correcting amendment.

SUMMARY: On May 20, 2020, the Consumer Product Safety Commission (Commission or CPSC) issued a direct final rule revising CPSC's mandatory standard for hand-held infant carriers to incorporate by reference the most recent version of the applicable ASTM standard. This document adds an email address, which will provide the public several ways to contact CPSC, even during the COVID-19 pandemic.

DATES: Effective on July 8, 2020.

FOR FURTHER INFORMATION CONTACT: Alberta E. Mills, Division of the Secretariat, U.S. Consumer Product Safety Commission, 4330 East West Highway, Bethesda, MD 20814; telephone: 301-504-7479; email: cpsc-os@cpsc.gov.

SUPPLEMENTARY INFORMATION: The Commission is adding new contact information in the direct final rule, Safety Standard for Hand-Held Infant Carriers, 16 CFR part 1225, published in the Federal Register on May 20, 2020. 85 FR 30605. This document adds an email address in § 1225.2 to provide an additional contact option to reach the agency's Secretary: cpsc-os@cpsc.gov. This document does not make any substantive changes to the final rule. We are making this change to provide the public several ways to contact CPSC, even during the COVID-19 pandemic.

List of Subjects in 16 CFR Part 1225

Consumer protection, Imports, Infants and children, Law enforcement, and Toys.

Accordingly, 16 CFR part 1225 is amended by making the following correcting amendment:

PART 1225—SAFETY STANDARD FOR HAND-HELD INFANT CARRIERS

1. The authority citation for part 1225 continues to read as follows:

Authority: 15 U.S.C. 2056a(b)(4)(B).

§ 1225.2 [Amended]

2. Amend § 1225.2 by adding “email: cpsc-os@cpsc.gov,” in the fifth sentence after the telephone number “301-504-7479”.

Alberta E. Mills,
Secretary U.S. Consumer Product Safety Commission.

[FR Doc. 2020-13351 Filed 7-7-20; 8:45 am]

BILLING CODE 6355-01-P